SECURITIES AND EXCHANGE COMMISSION

Sunshine Act Meetings

Notice is hereby given, pursuant to the provisions of the Government in the Sunshine Act, Pub. L. 94-409, that the Securities and Exchange Commission will hold the following meetings during the week of June 12, 2000.

Closed meetings will be held on Monday, June 12, 2000 at 10:30 a.m. and on Thursday, June 15, 2000 at 11 a.m.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(4), (8), (9)(A) and (10) and 17 CFR 200.402(a) (4), (8), (9) (A) and (10), permit consideration for the scheduled matters at the closed meetings.

The subject matter of the closed meeting scheduled for Monday, June 12, 2000 will be:

• An administrative proceeding of an enformcement nature.

The subject matter of the closed meeting scheduled for Thursday, June 15, 2000 will be:

• Institution of injunctive actions; and

• Institution and settlement of adminstrative proceedings of an enforcement nature.

At times, changes in Commission priorities require alterations in the scheduling of meetng items. For further information and to ascertain what, if any, matters have been added, deleted or postponed, please contact: the Office of the Secretary at (202) 942-7070.

Dated: June 5, 2000.
Jonathan G. Katz,
Secretary.

[FR Doc. 00-14535 Filed 6-5-00; 4:19 pm]

BILLING CODE 8010-01-M